DEPARTMENT OF DEFENSE

GENERAL SERVICES ADMINISTRATION

NATIONAL AERONAUTICS AND SPACE ADMINISTRATION

[OMB Control No. 9000-0032; Docket 2012-0076; Sequence 66]

Federal Acquisition Regulation; Information Collection; Contractor Use of Interagency Fleet Management System Vehicles

AGENCY: Department of Defense (DOD), General Services Administration (GSA), and National Aeronautics and Space Administration (NASA).

ACTION: Notice of request for public comments regarding an extension to an existing OMB clearance.

SUMMARY: Under the provisions of the Paperwork Reduction Act, the Regulatory Secretariat will be submitting to the Office of Management and Budget (OMB) a request to review and approve an extension of a previously approved information collection requirement concerning contractor use of interagency fleet management system vehicles per the Federal Acquisition Regulation (FAR) 51.2 and clause 52.251-2.

DATES: Submit comments on or before June 24, 2013.

ADDRESSES: Submit comments identified by Information Collection 9000-0032, Contractor Use of Interagency Fleet Management System Vehicles, by any of the following methods:

• Regulations.gov: http://www.regulations.gov. Submit comments via the Federal eRulemaking portal by searching the OMB control number. Select the link “Submit a Comment” that corresponds with “Information Collection 9000-0032, Contractor Use of Interagency Fleet Management System Vehicles”. Follow the instructions provided at the “Submit a Comment” screen. Please include your name, company name (if any), and “Information Collection 9000-0032, Contractor Use of Interagency Fleet Management System Vehicles” on your attached document.

• Fax: 202-501-4067.

• Mail: General Services Administration, Regulatory Secretariat (MVCB), 1275 First Street NE., Washington, DC 20417. ATTN: Hada Flowers/IC 9000-0032, Contractor Use of Interagency Fleet Management System Vehicles.

Instructions: Please submit comments only and cite Information Collection 9000-0032, Contractor Use of Interagency Fleet Management System Vehicles, in all correspondence related to this collection. All comments received will be posted without change to http://www.regulations.gov, including any personal and/or business confidential information provided.

FOR FURTHER INFORMATION CONTACT: Ms. Deborah Lague, Procurement Analyst, Office of Governmentwide Acquisition Policy, GSA (202) 694-8149 or email at deborah.lague@gsa.gov.

SUPPLEMENTARY INFORMATION:

A. Purpose

If it is in the best interest of the Government, the contracting officer may authorize cost-reimbursement contractors to obtain, for official purposes only, interagency fleet management system (IFMS) vehicles and related services. Before a contracting officer may authorize cost-reimbursement contractors to obtain IFMS vehicles and related services, the contracting officer must have, among other requirements: (1) A written statement that the contractor will assume, without the right of reimbursement from the Government, the cost or expense of any use of the IFMS vehicles and services not related to the performance of the contract; (2) Evidence that the contractor has obtained motor vehicle liability insurance covering bodily injury and property damage, with limits of liability as required or approved by the agency, protecting the contractor and the Government against third-party claims arising from the ownership, maintenance, or use of an IFMS vehicle; and (3) Considered any recommendations of the contractor. The information is used by the Government to determine whether it is in the Government's best interest to authorize a cost-reimbursement contractor, for official purposes only, to use IFMS vehicles and related services.

Authorized contractors shall submit requests for IFMS vehicles and related services in writing to the appropriate GSA point of contact in accordance with the FAR. Contractors' requests for vehicles or related services must include: (1) Two copies of the agency authorization; (2) The number of vehicles and related services required and period of use; (3) A list of employees who are authorized to request the vehicles or related services; (4) A listing of equipment authorized to be serviced; and (5) Billing instructions and address.

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

B. Annual Reporting Burden

The time required to read and prepare information is estimated at 1 hour. Per a data search in the Federal Procurement Data System, approximately 120 contracting agencies awarded cost reimbursable contracts in Fiscal Year 2012. Of these agencies, it is estimated that approximately fifty percent, or 60, contracting agencies may utilize the IFMS to provide vehicles to contractors for official purposes only. We are not aware of a centralized database which captures information on agencies' use of the IFMS for this information collection; however, agencies annually report motor vehicle fleet data using the GSA Federal Automotive Statistical Tool (FAST), a web-based reporting tool cosponsored by GSA and the Department of Energy. Based on information in the Fiscal Year 2011 report, the estimate of 60 contracting agencies that may utilize the IFMS to provide vehicles to contractors is reasonable. It is estimated that an average of 3 contractors per agency may request to use the IFMS for a total of approximately 180 requests per year. The requests should be limited because certain travel costs are allowable under cost-reimbursement contracts, including the costs of contractor-owned or -leased automobiles. FAR 31.205-46(d) provides that these costs are allowable, if reasonable, to the extent that the automobiles are used for company business.

Estimated respondents/yr: 180.

Number of Responses annually: 1.

Total annual responses: 180.

Estimated hrs/response: 1.

Estimated total burden/hrs: 180.

Obtaining Copies of Proposals: Requesters may obtain a copy of the information collection documents from the General Services Administration, Regulatory Secretariat (MVCB), 1275 First Street NE., Washington, DC 20417, telephone (202) 501-4755.

Please cite OMB Control No. 9000-0032, Contractor Use of Interagency Fleet Management System Vehicles, in all correspondence.

Dated: April 17, 2013.
William Clark,
Acting Director, Federal Acquisition Policy Division, Office of Governmentwide Acquisition Policy, Office of Acquisition Policy, Office of Governmentwide Policy.

[FR Doc. 2013-09446 Filed 4-22-13; 8:45 am]

BILLING CODE 6820-EP-P